DEPARTMENT OF THE INTERIOR

Minerals Management Service

30 CFR Part 250

[Docket ID MMS-2008-OMM-0001]

RIN 1010-AD18

Revisions to Subpart A—General; Subpart I—Platforms and Structures; and Subpart J—Pipelines and Pipeline Rights-of-Way

AGENCY: Minerals Management Service (MMS), Interior.

ACTION: Final rule.

SUMMARY: The MMS is amending its regulations to require lessees, lease operators, and pipeline right-of-way holders to submit a report if a facility or pipeline is damaged by a hurricane or other natural phenomena. The final rule also requires operators to provide assessment information on the structural integrity of Outer Continental Shelf platforms; information on the use of unbonded flexible pipe for pipelines; and additional information when installing pipeline risers on floating platforms. The rule also incorporates an industry-developed standard concerning the in-service inspection of mooring hardware for floating drilling units. These changes will allow MMS to better regulate the safety of the oil and gas infrastructure, and to promptly assess damage resulting from hurricanes or other natural phenomena.

DATES: Effective Date: This rule becomes effective on December 1, 2008. The incorporation by reference of the publication listed in the regulation was approved by the Director of the Federal Register on December 1, 2008.

FOR FURTHER INFORMATION CONTACT: B.J. Kruse, Chief, Office of Structural and Technical Support at (504) 736-2634, or e-mail Bernard.Kruse@mms.gov.

SUPPLEMENTARY INFORMATION: On July 19, 2005, MMS published a final rule (70 FR 41556) titled “Fixed and Floating Platforms and Structures and Documents Incorporated by Reference” in the Federal Register. That final rule expanded MMS regulations regarding the design, construction, and operation of Outer Continental Shelf (OCS) facilities to include coverage of floating oil and gas production platforms. The rule also incorporated by reference a number of industry-developed standards pertaining to floating platforms. During the process of developing and publishing that final rule, comments were received from both the public and inside MMS that suggested additional requirements. The MMS reviewed the suggested changes and developed a proposed rule that was published in the Federal Register on July 3, 2006 (71 FR 37874).

The MMS received three comment letters from industry and one from a local government. Two of the industry letters were from trade organizations that represent numerous companies involved in the oil and gas industry in the Gulf of Mexico. These comment letters can be viewed on our Web site at: http://www.mms.gov/federalregister/PublicComments/RevisionsSubpartA.htm.

Discussion of Comments on the Proposed Rule

The proposed rule included a new requirement at § 250.192, that would require lessees, lease operators, and pipeline right-of-way (ROW) holders to submit reports to MMS if their facilities are damaged by a hurricane, earthquake, or other natural phenomenon. One commenter suggested that MMS change the wording of the proposed regulation to specifically require that operators submit platform abandonment statistics and reports when facilities are damaged by arctic hazards such as sea ice and subzero temperatures. The rule was not changed. The current wording contains the phrase “other natural occurrences,” which includes adverse arctic conditions.

The MMS received several comments regarding electronic submission of hurricane/natural occurrence evacuation and damage statistics. Several commenters wanted the MMS to include the eWell Permitting and Reporting System as an approved method for submitting this data. The final rule was changed to state that electronic data will be acceptable when the MMS office is equipped to accept it. The eWell system, which we currently use for submission of electronic data, was not specified since the system could change in the future. Several changes were made to the final rule, however, to make reporting requirements more compatible with the eWell system.

A new form (Form MMS-143, Facility/Equipment Damage Report) has been developed to assist lessees, lease operators, and pipeline ROW holders when reporting damage by a hurricane, earthquake, or other natural phenomenon. Adding this requirement to the regulations, with an Office of Management and Budget (OMB) approval for information collection (IC), will allow MMS to request damage information without the delay of obtaining OMB approval for each event. We received two comments that questioned whether submitting Form MMS-143 was required in addition to reports required by Notices to Lessees (NTL) such as NTL 2005-G20, “Damage Caused by Hurricanes Katrina and Rita.” These reports are separate. The evacuation and production curtailment statistics required by the form are general status reports. The reports required by NTLs are detailed reports on the findings of any surveys, inspections, and damage assessments as well as remediation plans.

One commenter felt that the requirement at proposed § 250.192(b)(1), that operators submit an initial damage report within 48 hours using Form MMS-143, Facility/Equipment Damage Report, gave operators too little time to check into repair availability. With inadequate time to check on repair and equipment availability, the operator contended that the form could not be completed. The commenter also proposed that subsequent reports should be submitted only when new information is available or the status changes. We partially agree and have changed both the final rule and Form MMS-143. Both the rule and the form now make clear that the portion of the form requiring an operator to estimate the time needed to return the facility/equipment to service need not be completed until the availability of hardware and repair capability has been established. Operators must however, provide this information to the best of their availability within 30 days of submitting their initial damage report. Subsequent reports were also changed from weekly to monthly and when new information is available.

The MMS made several changes to § 250.900(c) that were not part of the proposed rule. These changes were made to clarify the intent of the existing rule and to bring the rule into line with current MMS procedures. First, a time limit of 120 days after an emergency event was added to clarify when operators could make repairs to primary structural elements without MMS approval. A further clarification was made that MMS must be notified of that primary structural damage within 24 hours of its discovery, rather than within 24 hours of the damage occurrence. The rule was also changed to make clear that the notification of completed repairs to the MMS must be in writing. The report must now be submitted within one week after completion of repairs, rather than 24 hours.

Commenters objected to the requirement in proposed § 250.900(e) that platform approvals will be cancelled if the platform is not installed within 1 year of platform approval. In the final rule, the 1-year requirement applies only to standard design platforms installed in the shallow waters (less than 400 feet water depth) of the Gulf of Mexico. For platforms subject to the MMS Platform Verification Program, cancellation of an approval will be on an individual platform basis. For these platforms, MMS will identify the date when the installation approval will be cancelled (if installation has not occurred) during the application and approval process.

The MMS received no comments on the proposed addition of API RP 2I—In-Service Inspection of Mooring Hardware for Floating Drilling Units—to the list of incorporated industry standards in § 250.901 (also added to the list in § 250.198). Similarly, no comments were received on the proposed requirement in § 250.905 that design safety factors for platforms be submitted to MMS. Both of these proposed changes are in the final rule.

One commenter suggested that wording be added to proposed § 250.911 that would obligate MMS to inform the lessee/applicant when approval to install a platform would be cancelled if installation had not occurred by that date. The MMS did not change the wording in the final rule based on this comment. However, wording similar to that proposed by this commenter was added in final § 250.900(e).

The MMS accepted a comment directed at proposed §§ 250.916, 250.917, and 250.918 that will reduce redundancy in the final Certified Verification Agent (CVA) report by no longer requiring recommendations that have already been communicated through earlier CVA reports.

Two commenters requested that proposed § 250.919 concerning in-service inspections be re-written to clearly exclude pipelines. The section was not changed. The current wording specifies that the in-service inspections apply to the above- and below-water structure of all platforms, as well as pertinent components of the mooring system for floating platforms.

Subpart I currently requires that lessees and operators develop an in-service inspection plan for platforms (§ 250.919). The plan must show in detail the type, extent, and frequency of the inspections lessees and operators will conduct on platforms. The proposed rule required that the plan be submitted to the Regional Supervisor for approval each year by April 1. Commenters questioned the rationale for requiring a complete list of all the platforms (and supporting data) to be submitted annually, when in many cases the data does not change from year to year. One commenter also felt that it was overly burdensome to require an annual plan to be submitted in April and a report on the results of the plan to be submitted in November, as required currently by § 250.919(b). The MMS agrees with these comments and has deleted the requirement and its burden hours for the April annual inspection plan. A slightly revised inspection report will still be required annually on November 1.

One commenter objected to the proposed rule's requirement at § 250.920(d) that operators must obtain approval from MMS before initiating mitigation actions for platforms that do not pass an assessment. We have not changed this requirement in the final rule. Mitigation actions resulting from failed platform assessments usually result in repairs, modifications, or decommissioning, all of which require MMS approval. However, we have changed § 250.900(c) in the final rule to make clear that under emergency conditions, you may make repairs to primary structural elements to restore an existing permitted condition without submitting an application or receiving prior MMS approval for up to 120-calendar days following an event.

One commenter was confused by MMS requirements in proposed § 250.920 for assessment of platforms. The commenter noted that the requirements as proposed should only apply to fixed platforms and further noted a lack of direction for operators wishing to obtain approval for assessing their platform to either the medium (A-2) or low (A-3) consequence-of-failure exposure category. The MMS agrees with these comments and has modified the final rule accordingly. Under the final rule, § 250.920 has been retitled and now refers only to fixed platforms. Also, the section was largely rewritten to make clear that operators will follow standards in documents incorporated by reference when determining the proper exposure categories for assessing their platforms, and do not need MMS approval before assessing their platforms at the A-2 or A-3 level. However, if MMS objects to the assessment level used, operators may be required to re-design or modify the platform. Changes were also made to the section to more closely track the wording of API RP 2A-WSD.

One commenter objected to the proposed requirement in § 250.920(f) of submitting an annual list of all platforms and appropriate data to support their assessment category. The MMS agrees and has delayed the initial filing of this report until November 1, 2009, with subsequent reports filed every 5 years.

Several minor changes were made to Subpart I which were not in the proposed rule. These items are intended to (1) add clarity to the regulation; (2) allow operators more flexibility when initiating emergency repairs; (3) allow for more electronic submission of required documents; or (4) allow the rule to more closely follow the wording/structure of a referenced industry document (e.g., API RP 2A-WSD).

Procedural Matters

Regulatory Planning and Review (Executive Order (E.O.) 12866)

This final rule is not a significant rule as determined by the Office of Management and Budget and is not subject to review under E.O. 12866.

(1) This final rule will not have an annual effect of $100 million or more on the economy. It will not adversely affect in a material way the economy, productivity, competition, jobs, the environment, public health or safety, or State, local, or tribal governments or communities.

(2) This final rule will not create a serious inconsistency or otherwise interfere with an action taken or planned by another agency.

(3) This final rule will not alter the budgetary effects of entitlements, grants, user fees, or loan programs or the rights or obligations of their recipients.

(4) This final rule will not raise novel legal or policy issues.

Regulatory Flexibility Act

The Department of the Interior certifies that this final rule will not have a significant economic effect on a substantial number of small entities under the Regulatory Flexibility Act (5 U.S.C. 601 et seq.).

This final rule will affect lessees and operators of leases and pipeline ROW holders in the OCS. This could include about 130 active Federal oil and gas lessees. Small lessees that operate under this rule fall under the Small Business Administration's (SBA) North American Industry Classification System (NAICS) codes 211111, Crude Petroleum and Natural Gas Extraction, and 213111, Drilling Oil and Gas Wells. For these NAICS code classifications, a small company is one with fewer than 500 employees. Based on these criteria, an estimated 70 percent of these companies are considered small. A pipeline company (non-producer) is a small entity if it is a liquid pipeline company with fewer than 1,500 employees, or a natural gas pipeline company with gross annual receipts of $6.5 million or less. There are approximately 20 pipeline companies operating on the OCS that meet these criteria. This rule, therefore, will affect a substantial number of small entities.

This final rule will not have a significant economic effect on a substantial number of small entities because the additional costs associated with the final rule are small compared to the normal cost of doing business on the OCS. The new requirement to submit damage data after hurricanes merely places into the rule a requirement that MMS already requires on an ad hoc basis. The adoption of an industry-developed standard concerning the inspection of mooring hardware simply codifies a set of practices developed by the industry. Requirements for assessment of platforms and to submit additional data for approval of unbonded flexible pipe have merely been changed slightly from existing requirements and will not have a significant economic effect.

Most of the costs for complying with this rule will be IC costs. The total estimated annual burden hours for responding to the IC requirements in the rule are 49,987. At an estimated cost of $74 per hour, the industry-wide cost for the IC burden would be slightly more than $3.5 million.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the actions of MMS, call 1-888-734-3247. You may comment to the Small Business Administration without fear of retaliation. Disciplinary action for retaliation by an MMS employee may include suspension or termination from employment with the DOI.

Small Business Regulatory Enforcement Fairness Act

The rule is not a major rule under 5 U.S.C. 804(2), the Small Business Regulatory Enforcement Fairness Act. This rule:

a. Will not have an annual effect on the economy of $100 million or more.

b. Will not cause a major increase in costs or prices for consumers, individual industries, Federal, State, or local government agencies, or geographic regions.

c. Will not have significant adverse effects on competition, employment, investment, productivity, innovation, or the ability of U.S.-based enterprises to compete with foreign-based enterprises.

Unfunded Mandates Reform Act

This rule will not impose an unfunded mandate on State, local, or tribal governments or the private sector of more than $100 million per year. The rule will not have a significant or unique effect on State, local, or tribal governments or the private sector. A statement containing the information required by the Unfunded Mandates Reform Act (2 U.S.C. 1531 et seq.) is not required.

Takings Implication Assessment (E.O. 12630)

Under the criteria in E.O. 12630, this rule does not have significant takings implications. The rule is not a governmental action capable of interference with constitutionally protected property rights. A Takings Implication Assessment is not required.

Federalism (E.O. 13132)

Under the criteria in E.O. 13132, this rule does not have sufficient federalism implications to warrant the preparation of a Federalism Assessment. This rule will not substantially and directly affect the relationship between the Federal and State governments. To the extent that State and local governments have a role in OCS activities, this rule will not affect that role. A Federalism Assessment is not required.

Civil Justice Reform (E.O. 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (E.O. 13175)

Under the criteria in E.O. 13175, we have evaluated this rule and determined that it has no potential effects on federally recognized Indian tribes. There are no Indian or tribal lands in the OCS.

Paperwork Reduction Act (PRA)

This rule contains new IC requirements; therefore, a submission to OMB under the PRA is required. The OMB has approved these revisions under OMB Control Number 1010-0168 (expiration October 31, 2011, for 50,287 burden hours).

The title of the collection of information for the rule is “Revisions to Subpart A—General; Subpart I—Platforms and Structures; and Subpart J—Pipelines and Pipeline Rights-of-Way.” Respondents are approximately 130 Federal OCS lessees, operators, and their Independent Verification Agents or other third-party reviewers of production facilities, as well as 207 pipeline ROW holders. Responses to this collection are mandatory. The frequency of response is on occasion. The IC does not include questions of a sensitive nature. The MMS will protect proprietary information according to the Freedom of Information Act (5 U.S.C. 552) and its implementing regulations (43 CFR part 2), and 30 CFR 250.197, Data and information to be made available to the public or for limited inspection, and 30 CFR part 252, OCS Oil and Gas Information Program.

The collection of information required by the current subparts A, I, and J of 30 CFR 250 are approved under OMB Control Numbers 1010-0114 (expiration 11/30/10); 1010-0149 (expiration 06/30/2011); and 1010-0050 (expiration 3/31/09), respectively.

The changes between the proposed rule and the final rule are primarily based on comments received and they are as follows:

• Remove the burden hours for § 250.192(a)(3). The proposed rule inadvertently stated that this was a new requirement, but the requirement and burden hours have always been covered in existing regulations (-100 hours).

• A reporting requirement for § 250.192(b) was changed. The requirement in the proposed rule was for weekly submissions, it has now been changed to monthly submissions (-300 hours).

• The proposed burden hours under § 250.919(a) for the annual April inspection plan were removed (-32,500 burden hours).

• In § 250.920(e), the requirement was changed from annually to every 5 years or as directed by the Regional Supervisor (-4,160 burden hours).

• Several of the section numbers in the final regulations have changed from the proposed rule and the IC requirements are now in different sections, but the burden hours remained the same.

We estimate the total annual reporting hour burden for the final rule to be 50,287 hours. There are no paperwork non-hour cost burdens associated with this rulemaking. Following is a breakdown of the burden estimate.

Citation 30 CFR 250 rule and NTL(s) | Reporting and recordkeeping requirement | Hour burden | Average No. of annual responses | Annual burden hours
Subpart A
192; MMS-132 | Daily report of evacuation statistics for natural occurrence/hurricane (Form MMS-132 in the GOMR) when circumstances warrant; inform MMS when you resume production | Burden approved under collection 1010-0114. |  | 0.
192(b) | Use Form MMS-143 to submit an initial damage report to the Regional Supervisor | 4 | 100 | 400
192(b) | Use Form MMS-143 to submit subsequent damage reports on a monthly basis until damaged structure or equipment is returned to service; immediately upon information in previous reports change; date item returned to service must be in final report | 1 | 100 | 100
Subpart I
900(c) | Notify MMS with a written report listing damage and emergency repairs; request approval of repairs; notify USCG when appropriate | Burden approved under collection 1010-0149. |  | 0.
900(e) | Re/Submit platform installation date and the final as-built location to the Regional Supervisor within 45 days after platform installation | .5 | 140 | 70
905(i) | Provide a summary of safety factors utilized in the design of the platform | .25 | 331 | 83
911; 916; 917; 918 | Submit complete schedule of all phases of design, fabrication, and installation with required information; also submit Gantt Chart with required information | 40 | 15 | 600
916(c) | Submit interim and final CVA reports and recommendations on design phase | Burden approved under collection 1010-0149. |  | 0.
917(a), (c) | Submit interim and final CVA reports and recommendations on fabrication phase, including notice of fabrication procedure changes or design specification modifications | Burden approved under collection 1010-0149. |  | 0.
918(c) | Submit interim and final CVA reports and recommendations on installation phase | Burden approved under collection 1010-0149. |  | 0
919 | Submit annual (November 1 of each year) report on inspection of platforms or floating production facilities, including summary of testing results | Burden approved under collection 1010-0149. |  | 0
919(b) NTL | After an environmental event, submit to Regional Supervisor initial report followed by updates and supporting information | 12 (initial) 12 (update) | 150 90 | 1,800 1,080
919(c) NTL | Submit results of inspections; obtain MMS approval before making major repairs | 120 | 200 | 24,000
920(a) | Demonstrate platform is able to withstand environmental loadings for appropriate exposure category | 20 | 400 | 8,000
920(c) | Submit application and obtain approval from the Regional Supervisor for mitigation actions (includes operational procedures) | 40 | 200 | 8,000
920(e) | Submit a list of all platforms you operate, and appropriate supporting data, every 5 years or as directed by the Regional Supervisor | 40 | 130 operators/5 years = 26 per year | 1,040
920(f) | Obtain approval from the Regional Supervisor for any change in the platform | 40 | 100 | 4,000
Subpart J
1007(a)(4)(i)(A); (B); (C) | Provide specified information in your pipeline application if using unbonded flexible pipe | 4 | 6 | 24
1007(a)(4)(i)(D) | Provide results of third party IVA review in your pipeline application if using unbonded flexible pipe | 40 | 1 | 40
1007(a)(4)(ii) | Provide specified information in your pipeline application | 30 | 35 | 1,050
Total Burden | 1,894 | 50,287

When final regulations are promulgated, the new IC burdens for 30 CFR part 250 subparts A, I, and J will be incorporated into their respective collections of information for those regulations. Also, this rule incorporates the hours and requirements already approved in 1010-0164 (26,880 burden hours, expiration 2/28/09); therefore, that collection will be discontinued when the final regulations take effect.

An agency may not conduct or sponsor, and a person is not required to respond to, a collection of information unless it displays a currently valid OMB control number. The public may comment, at any time, on the accuracy of the IC burden in this rule and may submit any comments to the Department of the Interior, Minerals Management Service; Attention: Regulations and Standards Branch; Mail Stop 4024; 381 Elden Street; Herndon, Virginia 20170-4817.

National Environmental Policy Act

This rule does not constitute a major Federal action significantly affecting the quality of the human environment. The MMS has analyzed this rule under the criteria of the National Environmental Policy Act, 516 Departmental Manual (DM) 2.3, and 516 DM 2, Appendix 1, and determined that it falls within the categorical exclusion for “regulations * * * that are of an administrative, financial, legal, technical, or procedural nature.” The MMS Categorical Exclusion Review concluded that the provisions of this rule are administrative, procedural, and technical. Furthermore, MMS concluded that the rulemaking does not involve an extraordinary circumstance set forth in 516 DM 2, Appendix 2. For these reasons, preparation of an environmental assessment or environmental impact statement is not required.

Data Quality Act

In developing this rule, we did not conduct or use a study, experiment, or survey requiring peer review under the Data Quality Act (Pub. L. 106-554, app. C section 515, 114 Stat. 2763, 2763A-153-154).

Effects on the Energy Supply (E.O. 13211)

This rule is not a significant energy action under the definition in E.O. 13211. A Statement of Energy Effects is not required.

List of Subjects in 30 CFR Part 250

Continental shelf, Environmental protection, Incorporation by reference, Oil and gas exploration, Pipelines, Public lands—rights-of-way, Reporting and recordkeeping requirements.

Dated: August 13, 2008.
Julie A. Jacobson,
Deputy Assistant Secretary—Land and Minerals Management.

For the reasons stated in the preamble, the Minerals Management Service (MMS) amends 30 CFR part 250 as follows:

PART 250—LEASING OF SULPHUR OR OIL AND GAS IN THE OUTER CONTINENTAL SHELF

1. The authority citation for part 250 continues to read as follows:

Authority: 31 U.S.C. 9701, 43 U.S.C. 1334

2. Revise § 250.192 to read as follows:

§ 250.192 What reports and statistics must I submit relating to a hurricane, earthquake, or other natural occurrence?

(a) You must submit evacuation statistics to the Regional Supervisor for a natural occurrence, such as a hurricane, a tropical storm, or an earthquake. Statistics include facilities and rigs evacuated and the amount of production shut-in for gas and oil. You must:

(1) Submit the statistics by fax or e-mail (for activities in the MMS GOM OCS Region, use Form MMS-132) as soon as possible when evacuation occurs. In lieu of submitting your statistics by fax or e-mail, you may submit them electronically in accordance with 30 CFR 250.186(a)(3);

(2) Submit the statistics on a daily basis by 11 a.m., as conditions allow, during the period of shut-in and evacuation;

(3) Inform MMS when you resume production; and

(4) Submit the statistics either by MMS district, or the total figures for your operations in an MMS region.

(b) If your facility, production equipment, or pipeline is damaged by a natural occurrence, you must:

(1) Submit an initial damage report to the Regional Supervisor within 48 hours after you complete your initial evaluation of the damage. You must use Form MMS-143, Facility/Equipment Damage Report, to make this and all subsequent reports. In lieu of submitting Form MMS-143 by fax or e-mail, you may submit the damage report electronically in accordance with 30 CFR 250.186(a)(3). In the report, you must:

(i) Name the items damaged (e.g., platform or other structure, production equipment, pipeline);

(ii) Describe the damage and assess the extent of the damage (major, medium, minor); and

(iii) Estimate the time it will take to replace or repair each damaged structure and piece of equipment and return it to service. The initial estimate need not be provided on the form until availability of hardware and repair capability has been established (not to exceed 30 days from your initial report).

(2) Submit subsequent reports monthly and immediately whenever information submitted in previous reports changes until the damaged structure or equipment is returned to service. In the final report, you must provide the date the item was returned to service.

3. Amend § 250.198(e) by adding an entry in alphanumerical order in the table for API RP 2I, In-Service Inspection of Mooring Hardware for Floating Drilling Units, and revise the entry for API RP 2A-WSD to read as follows:

§ 250.198 Documents Incorporated by Reference.

* * * * *

(e) * * *

Title of documents | Incorporated by reference at
* * * * * * *
API RP 2A WSD, Recommended Practice for Planning, Designing, and Constructing Fixed Offshore Platforms—Working Stress Design; Twenty-first Edition, December 2000; Errata and Supplement 1, December 2002; Errata and Supplement 2, October 2005, API Stock No. G2AWSD | § 250.901(a), (d); § 250.908(a); § 250.919(b)(2); § 250.920(a), (b), (c), (d), (e), (f).
* * * * * * *
API RP 2I, In-Service Inspection of Mooring Hardware for Floating Drilling Units; Second Edition, November 1996, Reaffirmed May 2003, API Order No. G02102 | § 250.901(a), (d).
* * * * * * *

4. Revise § 250.199(e)(1) as follows:

§ 250.199 Paperwork Reduction Act statements—information collection.

* * * * *

(e) * * *

30 CFR 250 subpart/title (OMB control No.) | Reasons for collecting information and how used
* * * * * * *
(1) Subpart A, General (1010-0114), including Forms MMS-132, Evacuation Statistics; MMS-143, Facility/Equipment Damage Report; MMS-1123, Designation of Operator; MMS-1832, Notification of Incidents of Noncompliance | To inform MMS of actions taken to comply with general operational requirements on the OCS. To ensure that operations on the OCS meet statutory and regulatory requirements, are safe and protect the environment, and result in diligent exploration, development, and production on OCS leases. To support the unproved and proved reserve estimation, resource assessment, and fair market value determinations. To allow MMS to rapidly assess damage and project any disruption of oil and gas production from the OCS after a major natural occurrence.
* * * * * * *

5. Revise § 250.900(c) and (e) to read as follows:

§ 250.900 What general requirements apply to all platforms?

* * * * *

(c) Under emergency conditions, you may make repairs to primary structural elements to restore an existing permitted condition without submitting an application or receiving prior MMS approval for up to 120-calendar days following an event. You must notify the Regional Supervisor of the damage that occurred within 24 hours of its discovery, and you must provide a written completion report to the Regional Supervisor of the repairs that were made within 1 week after completing the repairs. If you make emergency repairs on a floating platform, you must also notify the USCG.

* * * * *

(e) You must submit notification of the platform installation date and the final as-built location data to the Regional Supervisor within 45-calendar days of completion of platform installation.

(1) For platforms not subject to the Platform Verification Program (PVP), MMS will cancel the approved platform application 1 year after the approval has been granted if the platform has not been installed. If MMS cancels the approval, you must resubmit your platform application and receive MMS approval if you still plan to install the platform.

(2) For platforms subject to the PVP, cancellation of an approval will be on an individual platform basis. For these platforms, MMS will identify the date when the installation approval will be cancelled (if installation has not occurred) during the application and approval process. If MMS cancels your installation approval, you must resubmit your platform application and receive MMS approval if you still plan to install the platform.

6. Amend § 250.901 as follows:

A. Redesignate paragraphs (a)(9) through (a)(23) as (a)(10) through (a)(24), respectively,

B. Add new paragraph (a)(9),

C. Revise paragraph (d)(22),

D. Add new paragraph (d)(23) to read as follows:

§ 250.901 What industry standards must your platform meet?

(a) * * *

(9) API RP 2I, In-Service Inspection of Mooring Hardware for Floating Drilling Units (incorporated by reference as specified in § 250.198);

* * * * *

(d) * * *

(22) API RP 2SM, RP for Design, Manufacture, Installation, and Maintenance of Synthetic Fiber Ropes for Offshore Mooring;

(23) API RP 2I, In-Service Inspection of Mooring Hardware for Floating Drilling Units.

7. Amend § 250.905 by:

A. Adding a second sentence to the introductory text;

B. Redesignating current paragraphs (i), (j), and (k), as paragraphs (j), (k), and (l) respectively; and

C. Adding new paragraph (i) to read as follows:

§ 250.905 How do I get approval for the installation, modification, or repair of my platform?

* * * * *

In lieu of submitting the paper copies specified in the table, you may submit your application electronically in accordance with 30 CFR 250.186(a)(3).

* * * * *

Required submittal | Required contents | Other requirements
* * * * * * *
(i) Summary of safety factors utilized | A summary of pertinent derived factors of safety against failure for major structural members, e.g., unity check ratios exceeding 0.85 for steel-jacket platform members, indicated on “line” sketches of jacket sections | You must submit one copy.
* * * * * * *

8. Amend § 250.911 by redesignating current paragraphs (d) through (g), as paragraphs (e) through (h), respectively, and adding new paragraph (d) to read as follows:

§ 250.911 If my platform is subject to the Platform Verification Program, what must I do?

* * * * *

(d) Submit a complete schedule of all phases of design, fabrication, and installation for the Regional Supervisor's approval. You must include a project management timeline, Gantt Chart, that depicts when interim and final reports required by §§ 250.916, 250.917, and 250.918 will be submitted to the Regional Supervisor for each phase. On the timeline, you must break-out the specific scopes of work that inherently stand alone (e.g., deck, mooring systems, tendon systems, riser systems, turret systems).

* * * * *

9. Revise § 250.916(c) to read as follows:

§ 250.916 What are the CVA's primary duties during the design phase?

* * * * *

(c) The CVA must submit interim reports and a final report to the Regional Supervisor, and to you, during the design phase in accordance with the approved schedule required by § 250.911(d). In each interim and final report the CVA must:

(1) Provide a summary of the material reviewed and the CVA's findings;

(2) In the final CVA report, make a recommendation that the Regional Supervisor either accept, request modifications, or reject the proposed design unless such a recommendation has been previously made in an interim report;

(3) Describe the particulars of how, by whom, and when the independent review was conducted; and

(4) Provide any additional comments the CVA deems necessary.

10. Revise § 250.917(c) to read as follows:

§ 250.917 What are the CVA's primary duties during the fabrication phase?

* * * * *

(c) The CVA must submit interim reports and a final report to the Regional Supervisor, and to you, during the fabrication phase in accordance with the approved schedule required by § 250.911(d). In each interim and final report the CVA must:

(1) Give details of how, by whom, and when the independent monitoring activities were conducted;

(2) Describe the CVA's activities during the verification process;

(3) Summarize the CVA's findings;

(4) Confirm or deny compliance with the design specifications and the approved fabrication plan;

(5) In the final CVA report, make a recommendation to accept or reject the fabrication unless such a recommendation has been previously made in an interim report; and

(6) Provide any additional comments that the CVA deems necessary.

11. Revise § 250.918(c) to read as follows:

§ 250.918 What are the CVA's primary duties during the installation phase?

* * * * *

(c) The CVA must submit interim reports and a final report to the Regional Supervisor, and to you, during the installation phase in accordance with the approved schedule required by § 250.911(d). In each interim and final report the CVA must:

(1) Give details of how, by whom, and when the independent monitoring activities were conducted;

(2) Describe the CVA's activities during the verification process;

(3) Summarize the CVA's findings;

(4) Confirm or deny compliance with the approved installation plan;

(5) In the final report, make a recommendation to accept or reject the installation unless such a recommendation has been previously made in an interim report; and

(6) Provide any additional comments that the CVA deems necessary.

12. Revise § 250.919 to read as follows:

§ 250.919 What in-service inspection requirements must I meet?

(a) You must submit a comprehensive in-service inspection report annually by November 1 to the Regional Supervisor that must include:

(1) A list of fixed and floating platforms you inspected in the preceding 12 months;

(2) The extent and area of inspection for both the above-water and underwater portions of the platform and the pertinent components of the mooring system for floating platforms;

(3) The type of inspection employed (e.g., visual, magnetic particle, ultrasonic testing);

(4) The overall structural condition of each platform, including a corrosion protection evaluation; and

(5) A summary of the inspection results indicating what repairs, if any, were needed.

(b) If any of your structures have been exposed to a natural occurrence (e.g., hurricane, earthquake, or tropical storm), the Regional Supervisor may require you to submit an initial report of all structural damage, followed by subsequent updates, which include the following:

(1) A list of affected structures;

(2) A timetable for conducting the inspections described in section 14.4.3 of API RP 2A-WSD (incorporated by reference as specified in § 250.198); and

(3) An inspection plan for each structure that describes the work you will perform to determine the condition of the structure.

(c) The Regional Supervisor may also require you to submit the results of the inspections referred to in paragraph (b)(2) of this section, including a description of any detected damage that may adversely affect structural integrity, an assessment of the structure's ability to withstand any anticipated environmental conditions, and any remediation plans. Under §§ 250.900(b)(3) and 250.905, you must obtain approval from MMS before you make major repairs of any damage unless you meet the requirements of § 250.900(c).

13. Revise § 250.920 to read as follows:

§ 250.920 What are the MMS requirements for assessment of fixed platforms?

(a) You must document all wells, equipment, and pipelines supported by the platform if you intend to use either the A-2 or A-3 assessment category. Assessment categories are defined in API RP 2A-WSD, Section 17.3. If MMS objects to the assessment category you used for your assessment, you may need to redesign and/or modify the platform to adequately demonstrate that the platform is able to withstand the environmental loadings for the appropriate assessment category.

(b) You must perform an analysis check when your platform will have additional personnel, additional topside facilities, increased environmental or operational loading, or inadequate deck height your platform suffered significant damage (e.g., experienced damage to primary structural members or conductor guide trays or global structural integrity is adversely affected); or the exposure category changes to a more restrictive level (see Sections 17.2.1 through 17.2.5 of API RP 2A-WSD for a description of assessment initiators).

(c) You must initiate mitigation actions for platforms that do not pass the assessment process of API RP 2A-WSD. You must submit applications for your mitigation actions (e.g., repair, modification, decommissioning) to the Regional Supervisor for approval before you conduct the work.

(d) The MMS may require you to conduct a platform design basis check when the reduced environmental loading criteria contained in API RP 2A-WSD Section 17.6 are not applicable.

(e) By November 1, 2009, you must submit a complete list of all the platforms you operate, together with all the appropriate data to support the assessment category you assign to each platform and the platform assessment initiators (as defined in API RP 2A-WSD) to the Regional Supervisor. You must submit subsequent complete lists and the appropriate data to support the consequence-of-failure category every 5 years thereafter, or as directed by the Regional Supervisor.

(f) The use of Section 17, Assessment of Existing Platforms, of API RP 2A-WSD is limited to existing fixed structures that are serving their original approved purpose. You must obtain approval from the Regional Supervisor for any change in purpose of the platform, following the provisions of API RP 2A-WSD, Section 15, Re-use.

14. Amend § 250.1007 by revising paragraph (a)(4) to read as follows:

§ 250.1007 What to include in applications.

(a) * * *

(4) A description of any additional design precautions you took to enable the pipeline to withstand the effects of water currents, storm or ice scouring, soft bottoms, mudslides, earthquakes, permafrost, and other environmental factors.

(i) If you propose to use unbonded flexible pipe, your application must include:

(A) The manufacturer's design specification sheet;

(B) The design pressure (psi);

(C) An identification of the design standards you used; and

(D) A review by a third-party independent verification agent (IVA) according to API Spec 17J (incorporated by reference as specified in § 250.198), if applicable.

(ii) If you propose to use one or more pipeline risers for a tension leg platform or other floating platform, your application must include:

(A) The design fatigue life of the riser, with calculations, and the fatigue point at which you would replace the riser;

(B) The results of your vortex-induced vibration (VIV) analysis;

(C) An identification of the design standards you used; and

(D) A description of any necessary mitigation measures such as the use of helical strakes or anchoring devices.

* * * * *

[FR Doc. E8-25720 Filed 10-29-08; 8:45 am]

BILLING CODE 4310-MR-P